DEPARTMENT OF ENERGY

Federal Energy Regulatory Commission

[Docket Nos. ER05-103-000, et al.]

Midwest Independent Transmission System Operator, Inc. et al.; Electric Rate and Corporate Filings

February 8, 2006.

The following filings have been made with the Commission. The filings are listed in ascending order within each docket classification.

1. Midwest Independent Transmission System Operator, Inc.

[Docket No. EL05-103-000]

Take notice that on January 31, 2006, the Midwest Independent Transmission System Operator, Inc. (Midwest ISO) and PJM Interconnection, L.L.C. (PJM) submitted a redacted version of it Final Report. Midwest ISO states that on January 17, 2006, it filed a CEII protected Final Report and recommendations in compliance with Commission's Order issued June 27, 2005.

Comment Date: 5 p.m. Eastern Time on February 17, 2006.

2. Midwest Generation, LLC, EME Homer City Generation, L.P., Edison Mission Marketing & Trading, Inc., Midwest Generation Energy Services, LLC, CP Power Sales Twelve, L.L.C., CP Power Sales Seventeen, L.L.C., CP Power Sales Nineteen, L.L.C., CP Power Sales Twenty, L.L.C., CL Power Sales One, L.L.C., CL Power Sales Two, L.L.C., CL Power Sales Seven, L.L.C., Sunrise Power Company, LLC, and San Juan Mesa Wind Project, LLC

[Docket Nos. ER99-3693-005, ER99-666-006, ER99-852-010, ER99-893-0011, ER03-30-004, ER99-4229-009, ER99-4231-008, ER95-892-061, ER95-892-062, ER96-2652-056, ER01-2217-004 and ER05-1389-002]

Take notice that on January 26, 2006, the above referenced wholly- and partially-owned, indirect subsidiaries of Edison International tendered for filing a notice of change in status to inform the Commission of their recent indirect affiliation with San Juan Mesa Wind Project, LLC and DeGreeffpa, LLC, Bendwind, LLC, Sierra Wind, LLC, Groen Wind, LLC, Larswind, LLC, TAIR Windfarm, LLC and Hillcrest Wind, LLC, the reported change in status does not reflect a departure from the characteristics the Commission relied upon in granting market-based rate authorization to each of the Edison Entities.

Comment Date: 5 p.m. Eastern Time on February 16, 2006.

3. Public Service Company of New Mexico and Texas-New Mexico Power Company

[Docket No. ER06-367-000]

Take notice that on December 23, 2005, Public Service Company of New Mexico (PNM) tendered for filing on behalf of itself and Texas-New Mexico Power Company (TBNP) an entirely revised Interconnection Agreement of February 28, 1974 between Community Public Service Company and PNM as PNM Rate Schedule No. 46 and TNMP Rate Schedule No. 4.

Comment Date: 5 p.m. Eastern Time on February 15, 2006.

4. American Electric Power Service Corporation

[Docket No. ER06-553-000]

Take notice that on January 27, 2005, as supplemented on January 30, 2006, American Electric Power Service Corporation (AEPSC), tendered for filing an executed Letter Agreement between AEPSC and Cinergy Services, Inc., dated December 1, 2005.

Comment Date: 5 p.m. Eastern Time on February 21, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-2189 Filed 2-15-06; 8:45 am]

BILLING CODE 6717-01-P